DEPARTMENT OF DEFENSE

Defense Acquisition Regulations System

[Docket Number DARS-2020-0022; OMB Control Number 0704-0386]

Information Collection Requirement; Defense Federal Acquisition Regulation Supplement; Small Business Programs

AGENCY: Defense Acquisition Regulations System; Department of Defense (DoD).

ACTION: Notice and request for comments regarding a proposed extension of an approved information collection requirement.

SUMMARY: In compliance with section 3506(c)(2)(A) of the Paperwork Reduction Act of 1995, DoD announces the proposed extension of a public information collection requirement and seeks public comment on the provisions thereof. DoD invites comments on: Whether the proposed collection of information is necessary for the proper performance of the functions of DoD, including whether the information will have practical utility; the accuracy of the estimate of the burden of the information collection on respondents, including the use of automated collection techniques or other forms of information technology. The Office of Management and Budget (OMB) has approved this information collection requirement under Control Number 0704-0386 through November 30, 2020. DoD proposes that OMB extend its approval for an additional three years.

DATES: DoD will consider all comments received by November 9, 2020.

ADDRESSES: You may submit comments, identified by OMB Control Number 0704-0386, using any of the following methods:

○ Federal eRulemaking Portal: http://www.regulations.gov. Follow the instructions for submitting comments.

○ Email: osd.dfars@mail.mil. Include OMB Control Number 0704-0386 in the subject line of the message.

○ Fax: 571-372-6094.

○ Mail: Defense Acquisition Regulations System, Attn: Ms. Jennifer Johnson, OUSD(A&S)DPC/DARS, 3060 Defense Pentagon, Room 3B938, Washington, DC 20301-3060.

Comments received generally will be posted without change to http://www.regulations.gov, including any personal information provided.

FOR FURTHER INFORMATION CONTACT: Ms. Jennifer Johnson, at 571-372-6100.

SUPPLEMENTARY INFORMATION: Title and OMB Number: Defense Federal Acquisition Regulation Supplement (DFARS), Small Business Programs; OMB Control Number 0704-0386.

Type of Request: Extension.

Affected Public: Businesses or other for-profit and not-for-profit institutions.

Respondent's Obligation: Required to obtain or retain benefits.

Respondents: 41.

Responses per Respondent: 1.

Annual Responses: 41.

Hours per Response: 1.

Estimated Hours: 41.

Reporting Frequency: On occasion.

Needs and Uses: DoD uses this information to improve administration under the small business subcontracting program and to evaluate a contractor's past performance in complying with its subcontracting plan.

The clause at DFARS 252.219-7003, Small Business Subcontracting Plan (DoD Contracts), is prescribed for use in solicitations and contracts that include the clause at FAR 52.219-9, Small Business Subcontracting Plan. Paragraph (e) of the clause requires the contractor to notify the contracting officer, in writing, of any substitutions of firms that are not small business firms, for the small business firms specifically identified in the subcontracting plan. The notification is necessary when (1) a prime contractor has identified specific small business concerns in its subcontracting plan, and (2) after contract award, substitutes one of the small businesses identified in its subcontracting plan with a firm that is not a small business. The intent of this information collection is to alert the contracting officer of this situation.

Jennifer Lee Hawes,
Regulatory Control Officer, Defense Acquisition Regulations System.

[FR Doc. 2020-19981 Filed 9-9-20; 8:45 am]

BILLING CODE 5001-06-P